ENVIRONMENTAL PROTECTION AGENCY

40 CFR Parts 122, 123, 127, 403, 501, and 503

[EPA-HQ-OECA-2009-0274; FRL-9902-11-OECA]

Extension of Comment Period for the NPDES Electronic Reporting Rule

AGENCY: Environmental Protection Agency (EPA).

ACTION: Proposed rule; extension of comment period.

SUMMARY: The U.S. Environmental Protection Agency is extending the comment period for the NPDES Electronic Reporting Rule, published on July 30, 2013. EPA is soliciting public comment on a new regulation that would require electronic reporting for current paper-based NPDES reports. This action will save time and resources for permittees, states, tribes, territories, and EPA while improving compliance and providing better protection of the Nation's waters. The proposed Clean Water Act regulation would require permittees and regulators to use existing, available information technology to electronically report information and data related to the NPDES permit program in lieu of filing written reports. In response to requests from stakeholders, this action extends the comment period for 45 days.

DATES: Comments on the preliminary plan published on July 30, 2013 (78 FR 46006), will be accepted through December 12, 2013. Comments provided electronically will be considered timely if they are submitted by 11:59 p.m. Eastern Time on December 12, 2013.

ADDRESSES: Submit your comments, identified by Docket ID No. EPA-HQ-OECA-2009-0274 by one of the following methods:

• Federal Rulemaking Portal: http://www.regulations.gov: Follow the on-line instructions for submitting comments.

• Email: docket.oeca@epa.gov, Attention Docket ID No. EPA-HQ-OECA-2009-0274.

• Mail: Send the original and three copies of your comments to: U.S. Environmental Protection Agency, EPA Docket Center, Enforcement and Compliance Docket, Mail Code 28221T, 1200 Pennsylvania Avenue NW., Washington, DC 20460, Attention Docket ID No. EPA-HQ-OECA-2009-0274. In addition, if applicable, please mail a copy of your comments on the information collection provisions to the Office of Information and Regulatory Affairs, Office of Management and Budget (OMB), Attn: Desk Officer for EPA, 725 17th St. NW., Washington, DC 20503.

• Hand Deliver: Deliver your comments to: EPA Docket Center, EPA West Building, Room 3334, 1301 Constitution Avenue NW., Washington, DC, 20004, Attention Docket ID No. EPA-HQ-OECA-2009-0274. Such deliveries are only accepted during the EPA Docket Center's normal hours of operation and special arrangements should be made for deliveries of boxed information.

Instructions: Direct your comments to Docket ID No. EPA-HQ-OECA-2009-0274. EPA's policy is that all comments received by the deadline will be included in the public docket without charge, and may be made available online at www.regulations.gov, including any personal information provided, unless the comment includes information claimed to be Confidential Business Information (CBI) or other information for which disclosure is restricted by statute. Do not submit information that you consider to be CBI or otherwise protected through www.regulations.gov or email. The www.regulations.gov Web site is an “anonymous access” system, which means EPA will not know your identity or contact information unless you provide it within the body of your comment. If you send an email comment directly to EPA without going through www.regulations.gov, your email address will be automatically captured and included as part of the comment that is placed in the public docket and made available on the Internet. If you submit an electronic comment, EPA recommends that you include your name and other contact information in the body of your comment, and, if applicable, with any disk or CD-ROM you submit. If EPA cannot read your comment due to technical difficulties and cannot contact you for clarification, EPA may not be able to consider your comment. Electronic files should avoid the use of special characters and any form of encryption, and be free of any defects or viruses. For additional information about EPA's public docket, please visit the EPA Docket Center homepage at http://www.epa.gov/dockets/.

Docket: All documents in the docket are listed in the www.regulations.gov index. Although listed in the index, some information is not publicly available, e.g., CBI or other information for which disclosure is restricted by statute. Certain other material, such as copyrighted material, will be publicly available only in hard-copy. Publicly available docket materials are available either electronically in www.regulations.gov or in hard-copy at the Enforcement and Compliance Docket in the EPA Docket Center, EPA West Building, Room 3334, 1301 Constitution Avenue NW., Washington, DC, 20004. The Public Reading Room is open from 8:30 a.m. to 4:30 p.m., Monday through Friday, excluding legal holidays. The telephone number for the Public Reading Room is (202) 566-1744, and the telephone number for the Docket for the Office of Enforcement and Compliance Assurance (OECA) is (202) 566-1752. Docket visitors are required to show photographic identification, pass through a metal detector, and sign the EPA visitor log. All visitor bags are processed through an X-ray machine and are subject to search. Visitors will be provided an EPA visitor's badge that must be visible at all times in the building and returned upon departure. The “User Guide to the Docket for the NPDES Electronic Reporting Rule [DCN 0010]” is document that provides easy to follow instructions on how to access documents through www.regulations.gov.

FOR FURTHER INFORMATION CONTACT: For additional information, please contact John Dombrowski, Director, Enforcement Targeting and Data Division, Office of Compliance (mail code 2222A), Environmental Protection Agency, 1200 Pennsylvania Avenue NW., Washington, DC, 20460; telephone number: (202) 566-0742; email address: dombrowski.john@epa.gov.

SUPPLEMENTARY INFORMATION: On July 30, 2013 (78 FR 46006), EPA published the proposed NPDES Electronic Reporting Rule. This proposed rule describes EPA's approach to substitute electronic reporting for paper-based reports, which will over the long term save time and resources for permittees, states, tribes, territories, and EPA while improving compliance and better protecting the Nation's waters. The proposed rule would require permittees and regulators to use existing, available information technology to electronically report information and data related to the NPDES permit program in lieu of filing written reports.

The original comment deadline was October 28, 2013. Numerous stakeholders have requested an extension to the comment period in order to adequately understand and comment on the preliminary plan. This action extends the comment period for 45 days.

Dated: September 30, 2013.
Lisa Lund,
Director, Office of Compliance.

[FR Doc. 2013-25577 Filed 10-28-13; 8:45 am]

BILLING CODE 6560-50-P